LEGAL SERVICES CORPORATION

Sunshine Act Meeting of the Board of Directors Provision for the Delivery of Legal Services Committee

TIME AND DATE: The Provision for the Delivery of Legal Services Committee of the Legal Services Corporation Board of Directors will meet on November 19, 2004. The meeting will begin at approximately 1:30 p.m., and continue until conclusion of the committee's agenda. It is possible that the Committee meeting may convene earlier or later than expected, depending upon when the Board of Directors concludes its lunch.

LOCATION: The Westin Cincinnati, 21 E. 5th Street, Cincinnati, Ohio.

STATUS OF MEETING: Open.

MATTERS TO BE CONSIDERED:

Open Session

1. Approval of agenda.

2. Approval of the minutes of the Committee's meeting of September 10, 2004.

3. Presentations by Kentucky Legal Aid of the Bluegrass (LABG) on their efforts and specific activities to improve quality legal services, including:

a. Welcome by Howard Tankersley, LABG Vice President and President-elect of the Northern Kentucky Bar Association;

b. Overview of LABG by Richard (“Dick”) Cullison, LABG Executive Director;

c. Report on LABG's Immigrant Domestic Violence Prevention Project by Lea Webb, LABG Staff Attorney, and Holly Delaney, LABG's Interpreter and Immigration Specialist, including a presentation by LABG Spanish-speaking client, Marisol de la Borda;

d. Report on the Kentucky LSC programs' coordinated response to protect the rights of elderly clients who were about to be evicted from their nursing home due to a Medicaid crisis in Kentucky; and

e. Discussion of the crisis in funding in legal services program in the South by Dick Cullison.

4. Report on status of Mentoring Project.

5. Public comment.

6. Consider and act on other business.

7. Consider and act on adjournment of meeting.

CONTACT PERSON FOR INFORMATION: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: November 11, 2004.
Victor M. Fortuno,
Vice President for Legal Affairs, General Counsel & Corporate Secretary.

[FR Doc. 04-25486 Filed 11-12-04; 12:24 pm]

BILLING CODE 7050-01-P